DEPARTMENT OF HEALTH AND HUMAN SERVICES

Administration for Children and Families

Refugee Resettlement Program: Proposed Notice of Allocations to States of FY 2002 Funds for Refugee Social Services

AGENCY: Office of Refugee Resettlement (ORR), ACF, HHS.

ACTION: Proposed notice of allocations to States of FY 2002 funds for refugee social services.

SUMMARY: This notice establishes the proposed allocations to States of FY 2002 funds for social services under the Refugee Resettlement Program (RRP). In the final notice, amounts could be adjusted slightly based on final adjustments in FY 2001 arrivals in some States.

DATES: Comments on this notice must be received by May 9, 2002.

ADDRESSES: Address written comments, in duplicate, to: Barbara R. Chesnik, Office of Refugee Resettlement, Administration for Children and Families, 370 L'Enfant Promenade, SW., Washington, DC 20447. Due to delays in mail delivery to Federal offices, a copy of comments should also be faxed to: (202) 401-5487.

FOR FURTHER INFORMATION CONTACT: Barbara R. Chesnik, Division of Refugee Self-Sufficiency, telephone: (202) 401-4558, e-mail: bchesnik@acf.dhhs.gov.

SUPPLEMENTARY INFORMATION:

I. Amounts For Allocation

The Office of Refugee Resettlement (ORR) has available $158,600,000 in FY 2002 refugee social service funds as part of the FY 2002 appropriation for the Department of Health and Human Services (Departments of Labor, Health and Human Services, and Education, and Related Agencies Appropriations Act, 2002, Pub. L. No. 107-116).

The FY 2002 House Appropriations Committee Report (H.R. Rept. No. 107-229) reads as follows with respect to social services funds:

The bill provides $158,621,000 for social services, $15,000,000 more than the fiscal year 2001 appropriation and the budget request. Funds are distributed by formula as well as through the discretionary grant making process for special projects. The bill includes $15,000,000 to increase educational support to schools with a significant proportion of refugee children, consistent with previous support to schools heavily impacted by large concentration of refugees.

The Committee agrees that $19,000,000 is available for assistance to serve communities affected by the Cuban and Haitian entrants and refugees whose arrivals in recent years have increased. The Committee has set aside $26,000,000 for increased support to communities with large concentrations of refugees whose cultural differences make assimilation especially difficult justifying a more intense level and longer duration of Federal assistance. Finally, the Committee has set aside $14,000,000 to address the needs of refugees and communities impacted by recent changes in Federal assistance programs relating to welfare reform. The Committee urges ORR to assist refugees at risk of losing, or who have lost, benefits including SSI, TANF and Medicaid, in obtaining citizenship.

The FY 2002 Conference Report on Appropriations (H.R. Conf. 107-342) reads as follows concerning social services:

The conference agreement appropriates $460,203,000, instead of $460,224,000 as proposed by the House and $445,224,000 proposed by the Senate. Within this amount, for Social Services, the agreement provides $158,600,000 instead of $156,621,000 as proposed by the House and $143,621,000 as proposed by the Senate.

The conferees specify that funds for section 414 of the Immigration and Nationality Act shall be available for three fiscal years, as proposed by the House.

The conference agreement includes $15,000,000 that is to be used under social services to increase educational support to schools with a significant proportion of refugee children, consistent with language contained in the House report.

The agreement also includes $19,000,000 for increased support to communities with large concentrations of refugees whose cultural differences make assimilation especially difficult justifying a more intense level and longer duration of Federal assistance, consistent with language contained in the House report.

ORR proposes to use the $158,600,000 appropriated for FY 2002 social services as follows:

• $71,910,000 will be allocated under the 3-year population formula, as set forth in this notice for the purpose of providing employment services and other needed services to refugees.

• $12,690,000 will be awarded as new and continuation social service discretionary grants under new and prior year competitive grant announcements issued separately from this notice.

• $19,000,000 will be awarded to serve communities most heavily affected by recent Cuban and Haitian entrant and refugee arrivals. These funds will be awarded through continuation awards under a separate prior year announcement.

• $26,000,000 will be awarded through discretionary grants for communities with large concentrations of refugees whose cultural differences make assimilation especially difficult justifying a more intense level and longer duration of Federal assistance. A combination of new and continuation awards will be made through new and prior year separate announcements.

• $14,000,000 will be awarded to address the needs of refugees and communities impacted by recent changes in Federal assistance programs relating to welfare reform. Awards will be made through a separate announcement.

• $15,000,000 will be awarded to increase educational support to schools with a significant proportion of refugee children, consistent with previous support to schools heavily impacted by large concentrations of refugees. New awards will be made through a separate announcement.

Refugee Social Service Funds

The population figures for the formula social services allocation include refugees, Cuban/Haitian entrants, and Amerasians from Vietnam. (A State must, however, have an approved State plan for the Cuban/Haitian Entrant Program or indicate in its refugee program State plan that Cuban/Haitian entrants will be served in order to use funds on behalf of entrants as well as refugees.)

The Director is proposing to allocate $71,910,000 to States on the basis of each State's proportion of the national population of refugees who had been in the U.S. three years or less as of October 1, 2001 (including a floor amount for States which have small refugee populations).

The use of the 3-year population base in the allocation formula is required by section 412(c)(1)(B) of the Immigration and Nationality Act (INA) which states that the “funds available for a fiscal year for grants and contracts [for social services] . . . shall be allocated among the States based on the total number of refugees (including children and adults) who arrived in the United States not more than 36 months before the beginning of such fiscal year and who are actually residing in each State (taking into account secondary migration) as of the beginning of the fiscal year.”

As established in the FY 1991 social services notice published in the Federal Register of August 29, 1991, section I, “Allocation Amounts” (56 FR 42745), a variable floor amount for States which have small refugee populations is calculated as follows: If the application of the regular allocation formula yields less than $100,000, then—

(1) a base amount of $75,000 is provided for a State with a population of 50 or fewer refugees who have been in the U.S. 3 years or less; and

(2) for a State with more than 50 refugees who have been in the U.S. 3 years or less: (a) A floor has been calculated consisting of $50,000 plus the regular per capita allocation for refugees above 50 up to a total of $100,000 (in other words, the maximum under the floor formula is $100,000); (b) if this calculation has yielded less than $75,000, a base amount of $75,000 is provided for the State.

Population To Be Served and Allowable Services

Eligibility for refugee social services includes persons who meet all requirements of 45 CFR 400.43 (as amended by 65 FR 15409 (March 22,2000). In addition, persons granted asylum are eligible for refugee benefits and services from the date that asylum was granted (See ORR State Letter No. 00-12, effective June 15, 2000). Victims of a severe form of trafficking who have received a certification or eligibility letter from ORR are eligible from the date on the certification letter (See ORR State letter No. 01-13, May 3, 2001).

Services to refugees must be provided in accordance with the rules of 45 CFR part 400 subpart I—Refugee Social Services. Although the allocation formula is based on the 3-year refugee population, States may provide services to refugees who have been in the country up to 60 months (5 years), with the exception of referral and interpreter services and citizenship and naturalization preparation services for which there is no time limitation (45 CFR 400 152(b)). On December 5, 2001, however, the Director of ORR issued a blanket waiver of the time-in-country limit for services (ORR State Letter 01-31). This waiver, in effect until September 30, 2002, was issued to assist States in providing services to refugees following the events of September 11, 2001 and the subsequent cessation of refugee arrivals during most of the first quarter, FY 2002.

Allowable social services are those indicated in 45 CFR 400.154 and 400.155. Additional services not included in these sections which the State may wish to provide must be submitted to and approved by the Director of ORR (§ 400.155(h)).

Service Priorities

Priorities for provision of services are specified in 45 CFR 400.147. In order for refugees to move quickly off Temporary Assistance for Needy Families (TANF), States should, to the extent possible, ensure that all newly arriving refugees receive refugee-specific services designed to address the employment barriers that refugees typically face.

We encourage States to re-examine the range of services they currently offer to refugees. Those States that have had success in helping refugees achieve early employment may find it to be a good time to expand beyond provision of basic employment services and address the broader needs that refugees have in order to enhance their ability to maintain financial security and to successfully integrate into the community. Other States may need to reassess the delivery of employment services in light of local economic conditions and develop new strategies to better serve the currently arriving refugee groups.

States should also be aware that ORR will make social services formula funds available to pay for social services which are provided to refugees who participate in Wilson/Fish projects. Section 412(e)(7)(A) of the INA provides that:

The Secretary [of HHS] shall develop and implement alternative projects for refugees who have been in the United States less than thirty-six months, under which refugees are provided interim support, medical services, support [social] services, and case management, as needed, in a manner that encourages self-sufficiency, reduces welfare dependency, and fosters greater coordination among the resettlement agencies and service providers.

This provision is generally known as the Wilson/Fish Amendment. The Department has already issued a separate notice in the Federal Register with respect to applications for such projects (64 FR 19793 (April 22, 1999)).

II. (Reserved for Discussion of Comments in Final Notice)

III. Allocation Formulas

Of the funds available for FY 2002 for social services, $71,910,000 is proposed to be allocated to States in accordance with the formula specified in A. below.

A. A State's allowable formula allocation is calculated as follows:

1. The total amount of funds determined by the Director to be available for this purpose; divided by—

2. The total number of refugees, Cuban/Haitian entrants, and Amerasians from Vietnam who arrived in the United States not more than 3 years prior to the beginning of the fiscal year for which the funds are appropriated, as shown by the ORR Refugee Data System. The resulting per capita amount is multiplied by—

3. The number of persons in item 2, above, in the State as of October 1, 2001, adjusted for estimated secondary migration.

The calculation above yields the formula allocation for each State. Minimum allocations for small States are taken into account.

IV. Basis of Population Estimates

The population estimates for the proposed allocation of funds in FY 2002 for the formula social service allocation are based on data on refugee arrivals from the ORR Refugee Data System, adjusted as of October 1, 2001, for estimated secondary migration. The data base includes refugees of all nationalities, Amerasians from Vietnam, Cuban and Haitian entrants.

For fiscal year 2002, ORR's formula social service allocations for the States are based on the numbers of refugees, Amerasians, and entrants in the ORR data base. The numbers are based upon the arrivals during the preceding three fiscal years: 1999, 2000, and 2001.

The estimates of secondary migration are based on data submitted by all participating States on Form ORR-11 on secondary migrants who have resided in the U.S. for 36 months or less, as of September 30, 2001. The total migration reported by each State is summed, yielding in- and out-migration figures and a net migration figure for each State. The net migration figure is applied to the State's total arrival figure, resulting in a revised population estimate.

Estimates are developed separately for refugees and entrants and then combined into a total estimated 3-year refugee/entrant population for each State. Eligible Amerasians are included in the refugee figures. Havana parolees (HP's) are enumerated in a separate column in Table 1, below, because they are tabulated separately from other entrants. Havana parolee arrivals for all States are based on actual data.

Table 1, below, shows the estimated 3-year populations, as of October 1, 2001, of refugees (col. 1), entrants (col. 2), Havana parolees (col. 3); total refugee/entrant population, (col. 4); the proposed formula amounts which the population estimates yield, (col. 5); and the proposed total allocation (col. 6).

If a State does not agree with ORR's population estimate and wishes ORR to reconsider its numbers, it should submit written evidence to ORR, including a list of refugees identified by name, alien number, date of birth, and date of arrival. Listing of refugees who are not identified by their alien number will not be considered. Such evidence should be submitted separately from comments on the proposed allocation formula no later than 30 days from the date of publication of this notice and should be sent via overnight mail to: Loren Bussert, Division of Refugee Self-/Sufficiency, Office of Refugee Resettlement, 370 L'Enfant Promenade, SW., Washington, DC 20447, Telephone: (202) 401-4732, or as an Excel spreadsheet or other compatible spreadsheet format as an e-mail attachment to: lbussert@acf.dhhs.gov

States which have served asylees during the past year also may submit the following information in order to have their population estimate adjusted to include those asylees whose asylum was granted within the 36 months period ending September 30, 2001: (1) Alien number, (2) date of birth; and (3) the date asylum was granted.

States which have served victims of a severe form of trafficking during the past year may submit the following information in order to have their population estimate adjusted to include these trafficking victims: (1) Alien number, if available; (2) date of birth; (3) certification letter number and, (4) date on certification letter.

Please submit the above data on asylees and trafficking victims served on separate Excel spreadsheets as an e-mail attachment within 30 days of the publication date of this announcement to: lbussert@acf.dhhs.gov

V. Proposed Allocation Amounts

Funding subsequent to the publication of this notice will be contingent upon the submittal and approval of a State annual services plan that is developed on the basis of a local consultative process, as required by 45 CFR 400.11(b)(2) in the ORR regulations.

The following amounts are for allocation for refugee social services in FY 2002:

Table 1.—Estimated Three-Year Refugee/Entrant/Parolee Populations of States Participating in the Refugee Program and Proposed Social Service Formula Amount and Allocation for FY 2002
State | Refugees ¹ | Entrants | Havana parolees ² | Total population | Proposed formula amount | Proposed allocation
Alabama | 386 | 5 | 35 | 426 | $106,915 | $106,915
Alaska ³ | 115 | 0 | 0 | 115 | 28,862 | 75,000
Arizona | 7,201 | 404 | 2 | 7,607 | 1,909,160 | 1,909,160
Arkansas | 41 | 9 | 4 | 54 | 13,553 | 75,000
California | 29,077 | 74 | 238 | 29,389 | 7,375,880 | 7,375,880
Colorado ³ | 3,265 | 4 | 4 | 3,273 | 821,438 | 821,438
Connecticut | 3,075 | 30 | 34 | 3,139 | 787,808 | 787,808
Delaware | 128 | 15 | 0 | 143 | 35,889 | 75,000
Dist. of Columbia | 384 | 4 | 8 | 396 | 99,386 | 100,000
Florida | 13,412 | 15,246 | 32,725 | 61,383 | 15,405,547 | 15,405,547
Georgia | 10,348 | 35 | 110 | 10,493 | 2,633,472 | 2,633,472
Hawaii | (3) | 0 | 0 | (3) | (753) | 75,000
Idaho ³ | 2,796 | 1 | 3 | 2,800 | 702,728 | 702,728
Illinois | 9,436 | 15 | 102 | 9,553 | 2,397,556 | 2,397,556
Indiana | 1,713 | 6 | 11 | 1,730 | 434,185 | 434,185
Iowa | 3,869 | 0 | 2 | 3,871 | 971,521 | 971,521
Kansas | 614 | 5 | 4 | 623 | 156,357 | 156,357
Kentucky ³ | 3,403 | 1,088 | 8 | 4,499 | 1,129,133 | 1,129,133
Louisiana | 1,209 | 127 | 44 | 1,380 | 346,344 | 346,344
Maine | 1,109 | 0 | 0 | 1,109 | 278,330 | 278,330
Maryland | 3,734 | 12 | 20 | 3,766 | 945,169 | 945,169
Massachusetts ³ | 5,921 | 160 | 38 | 6,119 | 1,535,711 | 1,535,711
Michigan | 8,258 | 863 | 31 | 9,152 | 2,296,916 | 2,296,916
Minnesota | 13,653 | 6 | 8 | 13,667 | 3,430,064 | 3,430,064
Mississippi | 25 | 3 | 6 | 34 | 8,533 | 75,000
Missouri | 7,775 | 12 | 24 | 7,811 | 1,960,359 | 1,960,359
Montana | 1 | 0 | 4 | 5 | 1,255 | 75,000
Nebraska | 1,750 | 2 | 5 | 1,757 | 440,962 | 440,962
Nevada ³ | 1,164 | 752 | 53 | 1,969 | 494,168 | 494,168
New Hampshire | 1,724 | 0 | 0 | 1,724 | 432,679 | 432,679
New Jersey | 4,537 | 352 | 758 | 5,647 | 1,417,251 | 1,417,251
New Mexico | 458 | 319 | 2 | 779 | 195,509 | 195,509
New York | 21,394 | 1,149 | 195 | 22,738 | 5,706,650 | 5,706,650
North Carolina | 3,419 | 21 | 46 | 3,486 | 874,896 | 874,896
North Dakota ³ | 1,269 | 0 | 0 | 1,269 | 318,486 | 318,486
Ohio | 4,301 | 6 | 8 | 4,315 | 1,082,953 | 1,082,953
Oklahoma | 407 | 0 | 5 | 412 | 103,401 | 103,401
Oregon | 3,780 | 489 | 4 | 4,273 | 1,072,413 | 1,072,413
Pennsylvania | 7,970 | 241 | 47 | 8,258 | 2,072,545 | 2,072,545
Rhode Island | 781 | 2 | 7 | 790 | 198,270 | 198,270
South Carolina | 216 | 1 | 20 | 237 | 59,481 | 96,932
South Dakota ³ | 1,286 | 0 | 0 | 1,286 | 322,753 | 322,753
Tennessee | 2,995 | 8 | 38 | 3,041 | 763,212 | 763,212
Texas | 12,147 | 852 | 115 | 13,114 | 3,291,275 | 3,291,275
Utah | 3,179 | 2 | 2 | 3,183 | 798,851 | 798,851
Vermont | 884 | 0 | 0 | 884 | 221,861 | 221,861
Virginia | 5,344 | 92 | 29 | 5,465 | 1,371,574 | 1,371,574
Washington | 15,387 | 0 | 14 | 15,401 | 3,865,253 | 3,865,253
West Virginia | 18 | 0 | 0 | 18 | 4,518 | 75,000
Wisconsin | 2,057 | 5 | 4 | 2,066 | 518,513 | 518,513
Wyoming ⁴ |  |  |  |  |  |
Total | 227,412 | 22,417 | 34,817 | 284,646 | $71,438,792 | $71,910,000
¹ IncludesAmerasian immigrants. Adjusted for secondary migration.
² For all years, Havana Parolee arrivals for all States are based on actual data.
³ The allocations for Alaska, Colorado, Idaho, Kentucky, Massachusetts, Nevada, North Dakota, South Dakota, and for San Diego County, California are expected to be awarded to Wilson/Fish projects.
⁴ Wyoming no longer participates in the Refugee Program.

VI. Paperwork Reduction Act

This notice does not create any reporting or recordkeeping requirements requiring OMB clearance.

(Catalog of Federal Domestic Assistance No. 93.566 Refugee Assistance—State Administered Programs)
Dated: March 26, 2002.
Nguyen Van Hanh,
Director, Office of Refugee Resettlement.

[FR Doc. 02-8540 Filed 4-8-02; 8:45 am]

BILLING CODE 4184-01-P